DEPARTMENT OF HOMELAND SECURITY

Federal Emergency Management Agency

44 CFR Part 67

[Docket ID FEMA-2010-0003; Internal Agency Docket No. FEMA-B-1106]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before June 1, 2010.

ADDRESSES: The corresponding preliminary Flood Insurance Rate Map (FIRM) for the proposed BFEs for each community is available for inspection at the community's map repository. The respective addresses are listed in the table below.

You may submit comments, identified by Docket No. FEMA-B-1106, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ^ Elevation in meters (MSL): Effective | * Elevation in feet (NGVD) + Elevation in feet (NAVD) # Depth in feet above ground ^ Elevation in meters (MSL): Modified | Communities affected
Lee County, Iowa, and Incorporated Areas
Des Moines River (Mississippi River Backwater) | At the confluence with the Mississippi River | +502 | +499 | City of Keokuk.
| Approximately 700 feet upstream of Burlington Northern Railroad | +502 | +499
Devils Creek (Mississippi River Backwater) | Just upstream of the confluence with the Mississippi River | +523 | +524 | Unincorporated Areas of Lee County, City of Fort Madison.
| Approximately 900 feet downstream of 235th Street | +523 | +524
Dry Creek | Just upstream of the confluence with the Mississippi River | +524 | +525 | City of Fort Madison.
| Approximately 100 feet downstream of Atchison Topeka and Santa Fe Railway (Southernmost track) | +524 | +525
Fork Creek | Just upstream of the confluence with the Mississippi River | +525 | +526 | City of Fort Madison.
| Approximately 100 feet downstream of Burlington Northern Railroad | +525 | +526
French Creek | Approximately 600 feet upstream of B Avenue | None | +558 | Unincorporated Areas of Lee County.
| Approximately 700 feet upstream of B Avenue | None | +558
Horton Creek | On the downstream side of Burlington Northern Railroad | +522 | +523 | City of Montrose.
| Approximately 200 feet downstream of 2nd Street | +522 | +523
Jack Creek (Backwater from Mississippi River) | Approximately 1,300 feet upstream of 1st Street | +522 | +523 | City of Montrose.
| On the downstream side of Burlington Northern Railroad | +522 | +523
Mississippi River | At the confluence with the Des Moines River | +502 | +499 | Unincorporated Areas of Lee County, City of Fort Madison, City of Keokuk, City of Montrose.
| Approximately 4.7 miles downstream of the confluence with the Skunk River | +528 | +529
Mississippi River Tributary (Backwater from Mississippi River) | Approximately 100 feet upstream of Atchison Topeka and Santa Fe Railway | +523 | +524 | Unincorporated Areas of Lee County.
| Approximately 0.6 mile upstream of Ortho Road | +523 | +524
Soap Creek | Just upstream of the confluence with the Mississippi River | +503 | +500 | City of Keokuk.
| Approximately 500 feet downstream of 7th Street | +503 | +502
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Fort Madison
Maps are available for inspection at 811 Avenue East, Fort Madison, IA 52627.
City of Keokuk
Maps are available for inspection at 415 Blondeau Street, Keokuk, IA 52632.
City of Montrose
Maps are available for inspection at 102 South 2nd Street, Montrose, IA 52639.
Unincorporated Areas of Lee County
Maps are available for inspection at 415 Blondeau Street, Keokuk, IA 52632.
Clinton County, Missouri, and Incorporated Areas
Concord Creek | Approximately 30 feet upstream of the confluence with Funkhouser Creek | None | +879 | City of Plattsburg.
| Approximately 25 feet downstream of East Concord Drive | None | +901
Dicks Creek | Approximately 20 feet upstream of the City of Trimble corporate limit | None | +931 | City of Trimble, Unincorporated Areas of Clinton County.
Funkhouser Creek | Approximately 725 feet downstream of the confluence with Concord Creek | None | +876 | City of Plattsburg.
| Approximately 350 feet downstream of the confluence with Concord Creek | None | +878
Funkhouser Creek | Approximately 225 feet upstream of Broadway Street | None | +923 | City of Plattsburg, Unincorporated Areas of Clinton County.
| Approximately 25 feet downstream of Plotsky Avenue | None | +943
Smithland Lake | Entire shoreline | None | +876 | City of Trimble, Unincorporated Areas of Clinton County.
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Plattsburg
Maps are available for inspection at 114 West Maple Street, Plattsburg, MO 64477.
City of Trimble
Maps are available for inspection at 201 Port Arthur Road, Trimble, MO 64492.
Unincorporated Areas of Clinton County
Maps are available for inspection at 207 North Main Street, Room 3, Plattsburg, MO 64477.

(Catalog of Federal Domestic Assistance No. 97.022, “Flood Insurance.”)

Sandra K. Knight,
Deputy Assistant Administrator for Mitigation, Department of Homeland Security, Federal Emergency Management Agency.

[FR Doc. 2010-4343 Filed 3-2-10; 8:45 am]

BILLING CODE 9110-12-P